DEPARTMENT OF HOUSING AND URBAN DEVELOPMENT

[Docket No. FR-5800-N-26]

Announcement of Funding Award for Fiscal Year 2014 Research and Evaluation, Demonstrations and Data Analysis and Utilization

AGENCY: Office of the Assistant Secretary for Policy Development and Research, HUD. ACTION: Announcement of funding awards.

SUMMARY: In accordance with Section 501 of the Housing and Urban Development Act of 1970 (12 U.S.C. 1701z-1) and the Transportation, Housing and Urban Development, and Related Agencies Appropriations Act, 2014 as included in the Consolidated Appropriations Act, 2014 (Pub. L. 113-76, approved January 17, 2014) and the Consolidated and Further Continuing Appropriations Act, 2013 (Pub. L. 113-6, approved March 26, 2013). This document notifies the public of funding awards for Fiscal Year (FY) 2014 and announces the names, addresses and the amount awarded to the winners to conduct research and evaluation of the following projects: Moving To Work Evaluation, Jobs Plus Evaluation, and Small Area Fair Market Rent Demonstration Evaluation.

FOR FURTHER INFORMATION CONTACT: Ophelia Wilson, Office of University Partnerships, Department of Housing and Urban Development, 451 Seventh Street SW., Room 8226, Washington, DC 20410, telephone (202) 402-4390. To provide service for persons who are hearing-or-speech-impaired, this number may be reached via TTY by Dialing the Federal Relay Service on (800) 877-8339 or (202) 708-1455. (Telephone number, other than “800” TTY numbers are not toll free).

SUPPLEMENTARY INFORMATION: The Catalog of Federal Domestic Assistance number for the Research and Evaluation, Demonstrations and Data Analysis and Utilization initiative is: 14.536. On March 12, 2015, HUD posted a Notice of Funding Availability (NOFA) on Grants.gov announcing the availability of approximately $5.20 million for the Research and Evaluation, Demonstrations and Data Analysis and Utilization initiative. Under this initiative, HUD awarded cooperative agreements to three entities to conduct research and evaluation of the following projects: Moving to Work Evaluation, Jobs Plus Evaluation, and Small Area Fair Market Rent Demonstration Evaluation.

The Department reviewed, evaluated, and scored the applications received based on the criteria in the NOFA. As a result, HUD has funded the applications below, in accordance with section 501 of the Housing and Urban Development Act of 1970 (12 U.S.C. 1701z-1) and the Transportation, Housing and Urban Development, and Related Agencies Appropriations Act, 2014 as included in the Consolidated Appropriations Act, 2014 (Public Law 113-76, approved January 17, 2014) and the Consolidated and Further Continuing Appropriations Act, 2013 (Public Law 113-6, approved March 26, 2013). More information about the winners can be found at www.hud.gov.

Applicant/Address | Project | Amount of award
MDRC, 16 East 34th Street, 19th Floor, New York, NY 10016-4326, Contact: David Greenberg | Jobs Plus Evaluation | $1,474,920
Urban Institute, 2100 M Street, Washington, DC 20037-1207, Contact: Diane Levy | Moving to Work Evaluation | $2,171,076
Abt Associates, Inc., 55 Wheeler Street, Cambridge, MA 02138-1168, Contact: Mary Holin | Small Area Fair Market Rent, Demonstration Evaluation | $849,737

Dated: November 16, 2015.
Katherine M. O'Regan,
Assistant Secretary for Policy Development and Research.

[FR Doc. 2015-30265 Filed 11-27-15; 8:45 am]

BILLING CODE 4210-67-P